DEPARTMENT OF HEALTH AND HUMAN SERVICES

Stakeholder Listening Session in Preparation for the 77th World Health Assembly

AGENCY: Office of Global Affairs, Department of Health and Human Services.

ACTION: Notice of public listening session; request for comments.

DATES: The listening session will be held Thursday, May 2, 2024, from 10 a.m. to 12 p.m. eastern daylight time. This session is open to the public but requires RSVP to oga.rsvp1@hhs.gov by Friday, April 26, 2024. See RSVP section in SUPPLEMENTARY INFORMATION for details.

ADDRESSES: The session will be held virtually. Online and dial-in information will be shared with registered participants.

SUPPLEMENTARY INFORMATION:

Purpose: The U.S. Department of Health and Human Services (HHS) leads the U.S. delegation to the 77th World Health Assembly and will convene an informal Stakeholder Listening Session.

The Stakeholder Listening Session is designed to seek input from stakeholders and subject matter experts to help the HHS Office of Global Affairs inform and prepare for U.S. Government engagement at the World Health Assembly.

The World Health Assembly is the decision-making body of the World Health Organization (WHO). It is attended by delegations from all 194 WHO Member States. The main functions of the World Health Assembly are to determine the policies of the Organization, appoint the Director-General, supervise financial policies, and review and approve the proposed program budget. The Health Assembly is held annually in Geneva, Switzerland. Additional information about the World Health Assembly can be found at this website: https://www.who.int/about/governance/world-health-assembly.

Matters to be Discussed: The listening session will cover items on the provisional agenda of the 77th World Health Assembly. The provisional agenda can be found at this website: https://apps.who.int/gb/ebwha/pdf_files/EB154/B154_39-en.pdf.

Participation is welcome from stakeholder communities, including:

• Public health and advocacy groups

• State, local, and Tribal groups

• Private industry

• Minority health organizations

• Academic and scientific organizations, etc.

RSVP: Persons seeking to participate in the listening session must register by Friday, April 26, 2024.

Registrants must include their full name, email address, and organization, if any, and indicate whether they are registering as a listen-only attendee or as a speaker participant to oga.rsvp1@hhs.gov.

Requests to participate as a speaker must include all of the following information:

1. The name and email address of the person desiring to participate

2. The organization(s) that person represents

3. The primary agenda item(s) of interest, listed in order of the speaker's priorities

Note: A separate listening session will be held on Thursday, April 11, 2024, to discuss the following World Health Assembly agenda items:

• 13.2 Implementation of the International Health Regulations (2005)

• 13.3 Working Group on Amendments to the International Health Regulations (2005)

• 13.4 Intergovernmental Negotiating Body to draft and negotiate a WHO convention, agreement or other international instrument on pandemic prevention, preparedness and response

To provide comments on these agenda items, please see the corresponding Federal Register notice: https://www.federalregister.gov/documents/2024/02/28/2024-04080/stakeholder-listening-session-on-public-health-emergencies-preparedness-and-response-negotiations.

Other Information: Written comments are welcome and encouraged even if you are attending the listening session and should be emailed to oga.rsvp1@hhs.gov with the subject line “Written Comment Re: Stakeholder Listening Session for WHA77” by Friday, May 3, 2023.

We look forward to your comments on the 77th World Health Assembly.

Dated: February 28, 2024.
Susan Kim,
Principal Deputy Assistant Secretary, Office of Global Affairs.

[FR Doc. 2024-04525 Filed 3-4-24; 8:45 am]

BILLING CODE 4150-38-P